FEDERAL EMERGENCY MANAGEMENT AGENCY

44 CFR Part 67

[Docket No. FEMA-B-7417]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Acting Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

State | City/town/county | Source of flooding | Location | #Depth in feet above ground. *Elevation in feet. (NGVD): Existing | #Depth in feet above ground. *Elevation in feet. (NGVD): Modified
Arizona | La Paz County (Unincorporated Areas) | Bouse Wash | Approximately 5,700 feet downstream of Yellow Bird Drive | None | *875
|  |  | Approximately 3,200 feet downstream of Plomosa Road | None | *925
|  |  | Aproximately 3,500 feet upstream of Joshua Street | None | *979
|  | Tributary Along East Side Railroad | Approximately 3,700 feet downstream of Willamette Drive | None | *876
|  |  | Approximately 3,000 feet upstream of Main Street | None | *963
|  | Tributary B | At confluence with Bouse Wash | None | *889
|  |  | Approximately 800 feet upstream of the unnamed road stretching between Winema Drive and Cholla Drive | None | *946
|  | Tributary C | At confluence with Bouse Wash | None | *898
|  |  | Approximately 800 feet upstream of Cholla Drive | None | *925
|  | Tributary D | At confluence with Bouse Wash | None | *923
|  |  | Approximately 2,800 feet upstream of Black Mountain Drive | None | *985
|  | Tributary D-1 | At confluence with Tributary D | None | *932
|  |  | Approximately 800 feet upstream of Rayder Avenue | None | *947
|  | Tributary E | At confluence with Bouse Wash | None | *948
|  |  | Approximately 700 feet upstream of Rayder Avenue | None | *982
|  | Tributary F | At confluence of Bouse Wash | None | *876
|  |  | Approximately 3,550 feet upstream of La Posa Road | None | *941
| La Paz County (Unicorporated Areas) | Tributary H | At confluence with Bouse Wash | None | *940
|  |  | Approximately 1,600 feet upstream of Plomosa Road | None | *985
|  | Tributary I | At confluence with Bouse Wash | None | *944
|  |  | Just downstream of Plomosa | None | *1,005
Maps are available for inspection at the LaPaz County Development Department, 1112 Joshua Avenue, Suite 202, Parker, Arizona.
Send comments to The Honorable Cliff Edey, Chairperson, La Paz County Board of Supervisors, 1108 Joshua Avenue, Parker, Arizona 85334.
Colorado | Fremont County (Unincorporated Areas) | Oak Creek Right Overbank | 500 feet downstream of West Seventh Street | None | *5,151
|  |  | Approximately 150 feet upstream of West Seventh Street | None | *5,156
|  | Oak Creek | Approximately 1,200 feet upstream of confluence with Arkansas River | *5,154 | *5,158
|  |  | Just downstream at Atchison, Topeka & Sante Fe Railroad | *5,245 | *5,246
Maps are available for inspection at the County Courthouse, 615 Macon Avenue, Room B5, Canon City, Colorado.
Send comments to the Honorable Joe Rall, Fremont County Commissioner, 615 Macon Avenue, Canon City, Colorado, 81226.
Idaho | Ammon (City) Bonneville County | Sand Creek Drainage | Approximately 850 feet upstream of Sunnyside Road | *4,714 | *4,718
|  |  | Approximately 85 feet upstream of Wanda Street | #1 | *4,724
Maps are available for inspection at the Ammon City Hall, c/o Ms. Aleen Jenson, 2135 South Ammon Road, Ammon, Idaho, 83406.
Send comments to The Honorable Bruce Ard, Mayor, City of Ammon, 2135 South Ammon Road, Ammon, Idaho.
Idaho | Bonner County (Unincorporated Areas) | Pend Oreille River | Approximately 4,000 feet downstream of U.S. Route 2 | None | *2,056
|  |  | Approximately 800 feet downstream of Alderni Falls Dam | None | *2,057
Maps are available for inspection at the Bonner County Planning Department, 127 South First Avenue, Sandpoint, Idaho.
Send comments to The Honorable Dale Van Stone, Chairman, Bonner County Board of Commissioners, 215 South First Avenue, Sandpoint, Idaho 83864.
Idaho | Bonneville County (Unincorporated Areas) | Black Canyon Drainage | At Nielson Road | #3 | *4,741
|  |  | Approximately 4,900 feet upstream of Nielson Road | #1 | *4,775
|  | Salt River | 2,500 feet downstream of confluence of Miller Creek | None | *5,677
|  | Sand Creek Drainage | Just downstream of First Street | #1 | *4,744
|  |  | Just upstream of Sunnyside Road | *4,716 | *4,716
Maps are available for inspection at the Bonneville County Courthouse, 605 North Capital Avenue, Idaho Falls, Idaho.
Send comments to The Honorable Bill Shurtleff, Chairman, Bonneville County Board of Commissioners, 605 North Capital Avenue, Idaho Falls, Idaho 83402.
Missouri | Pulaski County (Unincorporated Areas) | Roubidoux Creek | Approximately 4,800 feet upstream from confluence with Gasconade River | None | *765
|  |  | Approximately 2,700 feet downstream of Historic Route 66 | *775 | *777
|  |  | Approximately 2,600 feet upstream of Historic Route 66 | *781 | *784
| Pulaski County (Unincorporated Areas) | Roubidoux Creek | Approximately 11,000 feet upstream of Interstate 44 | *796 | *796
|  | Mitchell Creek | Just upstream of Interstate 44 | None | *856
|  |  | Approximately 4,700 feet upstream of Highway H | None | *908
|  | Pearson Hollow | Approximately 300 feet upstream of Glenn Road | None | *892
|  |  | Approximately 1,100 feet upstream of Glenn Road | None | *901
Maps are available for inspection at the Pulaski County Courthouse, 301 Historic Route 66 East, Waynesville, Missouri 65583.
Send comments to The Honorable Harold York, Presiding County Commissioner, Pulaski County Courthouse, 301 Historic Route 66 East, Waynesville, Missouri 65583.
Missouri | Steelville (City) Crawford County | Whittenburg Creek | Approximately 600 feet downstream of County Road 545 | None | *726
|  |  | Just downstream of Highway 8 | *731 | *732
|  | Yadkin Creek | At confluence with Whittenburg Creek | None | *731
|  |  | Approximately 5,000 feet upstream of Spring Street | *783 | *785
Maps are available for inspection at City Hall, 103 Brickey Street, Steelville, Missouri.
Send comments to The Honorable Terry Palmer, Mayor, City of Steelville, 103 Brickey Street, Steelville, Missouri 65565.
North Dakota | Raymond (Township) Cass County | Maple River | At middle of eastern edge of Section 30 in Township 140 North Range 50 West | None | *903
|  |  | At southwestern corner of Section 30 in Township 140 North Range 50 West | None | *904
Maps are available for inspection at the Office of the Zoning Administration, 16365 33rd Street, Southeast, Mapleton, North Dakota.
Send comments to The Honorable Jim Hagenson, Chairman, Raymond Township Board, 16620 33rd Street, Southeast, Harwood, North Dakota 58042
Oregon | Gresham (City) Multnomah County | Kelly Creek | Approximately 130 feet downstream of Division Street | *335 | *335
|  |  | Approximately 400 feet upstream of NE Kane Road | None | *353
|  |  | Approximately 410 feet downstream of SE El Camino Drive | None | *355
|  |  | Approximately 430 feet upstream of Powell Valley Road | None | *387
|  |  | Approximately 670 feet downstream of SE Ironwood Way | None | *416
|  | Approximately 630 feet upstream of 282nd Street | None | *446
Maps are available for inspection at the Community Map Repository, City of Gresham, Community & Economic Development Department, 1333 NW Eastman Parkway, Gresham, Oregon.
Send comments to The Honorable Charles Becker, Mayor, City of Gresham, 1333 NW Eastman Parkway, Gresham, Oregon 97030.
Oregon | Warm Springs Indian Reservation | Warm Springs River | Approximately 500 feet downstream of Bia Route 13 | None | *1,408
|  |  | Approximately 650 feet upstream of Bia Route 3 | None | *1,471
|  | Shitike Creek | Approximately 100 feet upstream of the confluence with Deschutes River | None | *1,372
|  |  | Approximately 5,850 feet upstream of confluence with Tenino Creek | None | *1,534
|  | Tenino Creek | At confluence with Shitike Creek | None | *1,471
|  |  | Approximately 3,700 feet upstream of Bia Route 4 | None | *1,540
Maps are available for inspection at the Confederated Tribes of Warm Springs, 1233 Veterans Street, Warm Springs, Oregon.
Send comments to The Honorable Olney Platt Jr., Chairman, Confederated Tribes of Warm Springs Reservation, P.O. Box C, Warm Springs, Oregon 97761.
South Dakota | Hot Springs, (City) Fall River County | Cold Brook Creek | At confluence with Hot Brook Creek and Fall River | None | *3,475
|  |  | Approximately 300 feet upstream of Tillotson Street | None | *3,502
|  | Fall River | Approximately 1,250 feet downstream of Joplin Avenue | None | *3,375
|  |  | At confluence with Hot Brook Creek and Cold Brook Creek | None | *3,475
|  | Unnamed Tributary to Fall River | At confluence with Fall River | None | 3,390
|  |  | Apprximately 700 feet upstream of River Street | None | *3,408
Maps are available for inspection at City Hall, 303 North River Street, Hot Springs, South Dakota.
Send comments to The Honorable Karleen Kirchner, Mayor, City of Hot Springs, 303 North River Street, Hot Springs, South Dakota 57747.
Wyoming | Newcastle (City) Weston County | Cambria Creek | Approximately 1930 feet downstream of Carter Avenue | None | +4,248
|  |  | Approximately 2,100 feet upstream of North Summit Avenue | None | +4,350
|  | Cambria Overflow | At convergence with Little Oil Creek | None | +4,188
|  |  | At divergence from Cambria Creek | None | +4,268
|  | Cave Spring Canyon | At confluence with Cambria Creek | None | +4,335
|  |  | Approximately 1,950 feet upstream of confluence with Cambria Creek | None | +4,373
|  | Little Oil Creel | Approximately 1,900 feet downstream of Morrisey County Road | None | +4,134
|  |  | At U.S. Highway 16 Bypass | None | +4,227
|  |  | At Stampede Street | None | +4,270
+NAVD of 1988
Maps are available for inspection at City Hall, 10 W. Warwick, Newcastle, Wyoming.
Send comments to The Honorable Mike Mills, Mayor, City of Newcastle, 10 W. Warwick, Newcastle, WY 82701.

(Catalog of Federal Domestic Assistance No. 83.100, “Flood Insurance”)
Dated: July 31, 2001.
Robert F. Shea,
Acting Administrator, Federal Insurance and Mitigation Administration.

[FR Doc. 01-19684 Filed 8-6-01; 8:45 am]

BILLING CODE 6718-04-P